DEPARTMENT OF STATE

[Public Notice 5453]

Announcement of Meetings of the International Telecommunication Advisory Committee

Summary: This notice announces a series of International Telecommunication Advisory Committee (ITAC) meetings to prepare for the September 2006 meetings of the International Telecommunication Union Telecommunication Development Sector (ITU-D) Study Groups 1 and 2.

The International Telecommunication Advisory Committee (ITAC) will meet to prepare for the September 2006 meetings of ITU-D Study Groups 1 and 2. Meetings are scheduled for Thursday afternoons, 2 p.m.-4 p.m., on July 13 and 27, and August 3, 10, and 17. All meetings will be held in Room 2533A of the Department of State Harry S Truman Building. A conference bridge will be available for those outside the Washington Metro area.

These meetings are open to the public. Particulars on conference bridges is available from the secretariat minardje@state.gov, telephone (202) 647-3234.

Dated: June 21, 2006.
Doreen McGirr,
Foreign Affairs Officer, International Communications & Information Policy, Department of State.

[FR Doc. 06-5869 Filed 6-27-06; 8:45 am]

BILLING CODE 4710-07-P